DEPARTMENT OF THE TREASURY

Agency Information Collection Activities; Submission for OMB Review; Comment Request; Multiple Fiscal Service Information Collection Requests

AGENCY: Departmental Offices, Department of the Treasury.

ACTION: Notice of information collection; request for comment.

SUMMARY: The Department of the Treasury will submit the following information collection requests to the Office of Management and Budget (OMB) for review and clearance in accordance with the Paperwork Reduction Act of 1995, on or after the date of publication of this notice. The public is invited to submit comments on these requests.

DATES: Comments should be received on or before January 29, 2025 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Spencer W. Clark by emailing PRA@treasury.gov, calling (202) 927-5331, or viewing the entire information collection request at www.reginfo.gov.

SUPPLEMENTARY INFORMATION:

Bureau of the Fiscal Service

1. Title: Claim Against the United States for the Proceeds of a Government Check.

OMB Control Number: 1530-0010.

Type of Request: Extension without change of a currently approved collection.

Description: The information in this collection is needed to process an individual's claim for non-receipt of proceeds from a U.S. Treasury check or electronic benefit payments. Once the information is analyzed, a determination is made, and a recommendation is submitted to the program agency to either settle or deny the claim.

Form: FS 1133.

Affected Public: Individuals and households.

Estimated Number of Respondents: 81,000.

Frequency of Response: On occasion.

Estimated Total Number of Annual Responses: 81,000.

Estimated Time per Response: 10 minutes.

Estimated Total Annual Burden Hours: 13,500.

2. Title: Disclaimer and Consent with Respect to United States Savings Bond/Notes.

OMB Control Number: 1530-0059.

Type of Request: Extension without change of a currently approved collection.

Description: Used to obtain a disclaimer and consent as the result of an error in registration or otherwise the payment, refund of the purchase price, or reissue as requested by one person would appear to affect the right, title or interest of some other person.

Form: FS 1849.

Affected Public: Individuals and households.

Estimated Number of Respondents: 450.

Frequency of Response: On occasion.

Estimated Total Number of Annual Responses: 450.

Estimated Time per Response: 6 minutes.

Estimated Total Annual Burden Hours: 45.

3. Title: Checklists of Filings for Certified Surety and/or Certified Reinsuring Companies and for Admitted Reinsurer Companies.

OMB Control Number: 1530-0061.

Type of Request: Extension without change of a currently approved collection.

Description: This information is collected from insurance companies to provide Treasury a basis to determine acceptability of companies applying for a Certificate of Authority to write or reinsure Federal surety bonds or as an Admitted Reinsurer (not on excess risks to U.S.).

Form: None.

Affected Public: Businesses or other for-profits.

Estimated Number of Respondents: 30.

Frequency of Response: On occasion.

Estimated Total Number of Annual Responses: 30.

Estimated Time per Response: 5 hours.

Estimated Total Annual Burden Hours: 150.

4. Title: Subscription For Purchase and Issue of U.S. Treasury Securities—State and Local Government Series.

OMB Control Number: 1530-0065.

Type of Request: Extension without change of a currently approved collection.

Description: The information is necessary to establish and maintain the accounts for owners of securities of State and Local Government Series.

Form: FS Form 4144, FS Form 4144-1, FS Form 4144-2, FS Form 4144-5, FS Form 4144-6, FS Form 4144-7, FS Form 5237, FS Form 5238, FS Form 5377.

Affected Public: State, Local and Tribal Governments.

Estimated Number of Respondents: 7,105.

Frequency of Response: On occasion.

Estimated Total Number of Annual Responses: 7,105.

Estimated Time per Response: 23 minutes.

Estimated Total Annual Burden Hours: 2,706.

Authority: 44 U.S.C. 3501 et seq.

Spencer W. Clark,
Treasury PRA Clearance Officer.

[FR Doc. 2024-31068 Filed 12-27-24; 8:45 am]

BILLING CODE 4810-AS-P